ENVIRONMENTAL PROTECTION AGENCY

[FRL-6990-5]

Whalehead Beach Superfund Site; Notice of Proposed Settlement

AGENCY: Environmental Protection Agency.

ACTION: Notice of Proposed Settlement.

SUMMARY: The United States Environmental Protection Agency is proposing to enter into a settlement with the Atlantic Research Corporation for past response costs pursuant to Section 122(h)(1) of the Comprehensive Environmental Response, Compensation, and Liability Act (CERCLA), 42 U.S.C. 9622(h)(1) concerning the Whalehead Beach Superfund Site located in Corolla, Currituck County, North Carolina. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-PSB), 61 Forsyth Street SW., Atlanta, Georgia 30303, (404) 562-8887.

Written comments may be submitted to Ms. Batchelor within 30 calendar days of the date of this publication.

Dated: May 2, 2001.
James T. Miller,
Acting Chief, CERCLA Program Services Branch, Waste Management Division.

[FR Doc. 01-13944 Filed 6-1-01; 8:45 am]

BILLING CODE 6560-50-U